FEDERAL RETIREMENT THRIFT INVESTMENT BOARD

Sunshine Act Notice

Time and Date: 9 a.m.(EDT), May 16, 2005.

Place: 4th Floor Conference Room, 1250 H Street, NW., Washington, DC.

Status: Parts will be open to the public and parts closed to the public.

Matters to be Considered:

Parts Open to the Public:

1. Approval of the minutes of the April 18, 2005, Board member meeting.

2. Presentation by Barclays Global Investors.

3. Presentation by Metropolitan Life.

4. Thrift Savings Plan activity report by the Executive Director.

Parts Closed to the Public:

5. Procurement.

FOR FURTHER INFORMATION CONTACT: Thomas J. Trabucco, Director, Office of External Affairs, (202) 942-1640.

Dated: May 9, 2005.
Thomas K. Emswiler,
Associate General Counsel, Federal Retirement Thrift Investment Board.

[FR Doc. 05-9541 Filed 5-9-05; 3:14 pm]

BILLING CODE 6760-01-P